DEPARTMENT OF HEALTH AND HUMAN SERVICES

Centers for Disease Control and Prevention

[60 Day-07-07BS]

Proposed Data Collections Submitted for Public Comment and Recommendations; Correction Centers for Disease Control and Prevention; Notice; Correction

The Centers for Disease Control and Prevention published a document in the Federal Register concerning a retraction of a previously published 60-day Federal Register Notice. The document contained the incorrect Federal Register Notice number.

FOR FURTHER INFORMATION CONTACT: Maryam Daneshvar, 404-639-4604.

Correction

In the Federal Register of November 7, 2007, Volume 72, Number 215, in FR Doc. E7-21864 page 62857, under the agency name correct the Federal Register notice number 60 Day-07-07BS to read: 60 Day-07-06BS.

Dated: November 7, 2007.
Maryam I. Daneshvar,
Acting Reports Clearance Officer, Centers for Disease Control and Prevention.

[FR Doc. E7-22420 Filed 11-15-07; 8:45 am]

BILLING CODE 4163-18-P